DEPARTMENT OF ENERGY

Federal Energy Regulatory Commission

[EG13-57-000; EG13-58-000; EG13-59-000; EG13-60-000; EG13-61-000; EG13-62-000; EG13-63-000; EG13-64-000; FC13-13-000]

Genesis Solar, LLC; NRG Delta LLC; Mountain View Solar, LLC; Pheasant Run Wind, LLC; Pheasant Run Wind II, LLC; Tuscola Wind II, LLC; Mountain Wind Power, LLC; Mountain Wind Power II, LLC; Summerhaven Wind, LP; Notice of Effectiveness of Exempt Wholesale Generator or Foreign Utility Company Status

Take notice that during the month of November 2013, the status of the above-captioned entities as Exempt Wholesale Generators or Foreign Utility Companies became effective by operation of the Commission's regulations. 18 CFR 366.7(a).

Dated: December 9, 2013.
Kimberly D. Bose,
Secretary.

[FR Doc. 2013-30036 Filed 12-17-13; 8:45 am]

BILLING CODE 6717-01-P